COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete service(s) to the Procurement List that were furnished by nonprofit agencies employing persons who are blind or have other severe disabilities.

DATES: Comments must be received on or before: August 4, 2024.

ADDRESSES: Committee for Purchase From People Who Are Blind or Severely Disabled, 355 E Street SW, Suite 325, Washington, DC 20024.

FOR FURTHER INFORMATION CONTACT: For further information or to submit comments contact: Michael R. Jurkowski, Telephone: (703) 489-1322 or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following service(s) are proposed for deletion from the Procurement List:

Service(s)

Service Type: Janitorial/Custodial

Mandatory for: BLM, Billings Dispatch Center, 1299 Rimtop Drive, Billings, MT

Authorized Source of Supply: Community Option Resource Enterprises, Inc. (COR Enterprises), Billings, MT

Contracting Activity: BUREAU OF LAND MANAGEMENT, MT—MONTANA STATE OFFICE

Service Type: Janitorial/Custodial

Mandatory for: BLM, Fire Cache Office Facilities, 551 Northview Drive, Billings, MT

Authorized Source of Supply: Community Option Resource Enterprises, Inc. (COR Enterprises), Billings, MT

Contracting Activity: BUREAU OF LAND MANAGEMENT, MT—MONTANA STATE OFFICE

Service Type: Document Destruction

Mandatory for: NARA, Denver Federal Record Center (Rocky Mtn Reg): Building 48, 6th and Kipling, Denver, CO

Authorized Source of Supply: Bayaud Enterprises, Inc., Denver, CO

Contracting Activity: NATIONAL ARCHIVES AND RECORDS ADMINISTRATION, NARA FACILITIES

Service Type: Courier Service

Mandatory for: Department of Veterans Affairs, Michael E. DeBakey VA Medical Center, 2002 Holcombe Boulevard, Houston, TX

Contracting Activity: VETERANS AFFAIRS, DEPARTMENT OF, 256-NETWORK CONTRACT OFC 16(00256)

Service Type: Grounds Maintenance

Mandatory for: Federal Aviation Administration, Norfolk Air Traffic Control Tower, Virginia Beach, VA and Patrick Henry Field Air Traffic Control Tower, Newport News, VA

Authorized Source of Supply: Portco, Inc., Portsmouth, VA

Contracting Activity: FEDERAL AVIATION ADMINISTRATION, 697DCK REGIONAL ACQUISITIONS SVCS

Michael R. Jurkowski,
Director, Business Operations.

[FR Doc. 2024-14736 Filed 7-3-24; 8:45 am]

BILLING CODE 6353-01-P